DEPARTMENT OF JUSTICE

Notice of Lodging of Consent Decree under the Comprehensive Environmental Response, Compensation, and Liability Act

Notice is hereby given that on October 28, 2011 a proposed Consent Decree with the estate of Donald E. Horne, K.C. 1986 Limited Partnership, and DEH Merrywood Company, in United States of America v. Donald E. Horne, et al., Civil Action No. 4:05-00497, was lodged with the United States District Court for the Western District of Missouri. The United States filed the Complaint on May 27, 2005 on behalf of the Administrator of the Environmental Protection Agency pursuant to the Comprehensive Environmental Response, Compensation, and Liability Act of 1980, as amended, 42 U.S.C. 9601, et seq., seeking recovery of costs incurred in responding to the release or threat of release of hazardous substances at or in connection with the Armour Road Superfund Site located at 2251 Armour Road North Kansas City, Missouri. The Complaint alleged claims against Donald E. Horne (who died in 2007) and five other defendants.

The Consent Decree addresses only the claims against the estate of Donald E. Horne, K.C. 1986 Limited Partnership, and DEH Merrywood Company. The Consent Decree will resolve the United States' claims against these settling Defendants for the Site in return for payments equaling 36.7% of the assets of Donald E. Horne's estate as described in the Consent Decree.

For thirty (30) days after the date of this publication, the Department of Justice will receive comments relating to the Consent Decree. Comments should be addressed to the Assistant Attorney General, Environment and Natural Resources Division, and either emailed to pubcomment-ees.enrd@usdoj.gov or mailed to P.O. Box 7611, U.S. Department of Justice, Washington, DC 20044-7611. In either case, the comments should refer to United States of America v. Donald E. Horne, et al., DOJ Ref No. 90-11-3-08035/1.

During the comment period, the Consent Decree may be examined on the following Department of Justice Web site: http://www.justice.gov/enrd/Consent_Decrees.html. A copy of the Consent Decree may also be obtained by mail from the Consent Decree Library, P.O. Box 7611, U.S. Department of Justice, Washington, DC 20044-7611, or by faxing or emailing a request to Tonia Fleetwood (tonia.fleetwood@usdoj.gov), fax no. (202) 514-0097, phone confirmation number (202) 514-1547. In requesting a copy from the Consent Decree Library, please enclose a check in the amount of $14.50 (25 cents per page reproduction cost) payable to the United States Treasury or, if by email or fax, please forward a check in that amount to the Consent Decree Library at the stated address.

Robert E. Maher, Jr.,
Assistant Section Chief, Environmental Enforcement Section, Environment and Natural Resources Division.

[FR Doc. 2011-29100 Filed 11-9-11; 8:45 am]

BILLING CODE 4410-15-P